DEPARTMENT OF ENERGY

Federal Energy Regulatory Commission

[Docket No. CP05-61-000]

Algonquin Gas Transmission, LLC; Notice of Request Under Blanket Authorization

February 4, 2005.

Take notice that on January 28, 2005, Algonquin Gas Transmission, LLC (Algonquin), 5400 Westheimer Court, Houston, Texas 77056-5310, filed in Docket No. CP05-61-000, an application pursuant to sections 157.205, 157.208 and 157.216 of the Commission's Regulations implementing the Natural Gas Act (NGA) as amended, for authorization to abandon certain facilities, and to construct and operate replacement facilities on its J-1 System pipeline in the cities of Medford and Everett, in Middlesex County, Massachusetts. Algonquin further explains that it seeks to comply with Department of Transportation safety regulations, under Algonquin's blanket certificate issued in Docket No. CP87-317-000 pursuant to section 7 of the NGA. Any questions concerning this application may be directed to Steven E. Tillman, General Manager, Regulatory Affairs, at (713) 627-5113.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act.

Comment Date: February 25, 2005.

Magalie R. Salas,
Secretary.

[FR Doc. E5-566 Filed 2-9-05; 8:45 am]

BILLING CODE 6717-01-P